DEPARTMENT OF TRANSPORTATION

Federal Aviation Administration

Notice of Intent To Rule on Application 03-06-C-00-DSM To Impose and Use the Revenue From a Passenger Facility Charge (PFC) at Des Moines International Airport, Des Moines, IA

AGENCY: Federal Aviation Administration (FAA), DOT.

ACTION: Notice of intent to rule on application.

SUMMARY: The FAA proposes to rule and invites public comment on the application to impose and use the revenue from a PFC at Des Moines International Airport under the provisions of the Aviation Safety and Capacity Expansion Act of 1990 (Title IX of the Omnibus Budget Reconciliation Act of 1990) (Public Law 101-508) and part 158 of the Federal Aviation Regulations (14 CFR part 158).

DATES: Comments must be received on or before October 9, 2003.

ADDRESSES: Comments on this application may be mailed or delivered in triplicate to the FAA at the following address: Federal Aviation Administration, Central Region, Airports Division, 901 Locust Street, Kansas City, MO 64106.

In addition, one copy of any comments submitted to the FAA must be mailed or delivered to Mr. William F. Flannery, Director of Aviation, Des Moines International Airport, at the following address: City of Des Moines, 5800 Fleur Drive, Des Moines, Iowa 50321.

Air carriers and foreign air carriers may submit copies of written comments previously provided to the Des Moines International Airport, Des Moines, Iowa, under section 158.23 of part 158.

FOR FURTHER INFORMATION CONTACT: Nicoletta S. Oliver, Airports Compliance Specialist, FAA, Central Region, 901 Locust Street, Kansas City, MO 64106, (816) 329-2642. The application may be reviewed in person at this same location.

SUPPLEMENTARY INFORMATION: The FAA proposes to rule and invites public comment on the application to impose and use the revenue from a PFC at Des Moines International Airport under the provisions of the Aviation Safety and Capacity Expansion Act of 1990 (Title IX of the Omnibus Budget Reconciliation Act of 1990) (Public Law 101-508) and part 158 of the Federal Aviation Regulations (14 CFR part 185).

On August 21, 2003, the FAA determined that the application to impose and use the revenue from a PFC submitted by the City of Des Moines, was substantially complete within the requirements of Section 158.25 of part 158. The FAA will approve or disapprove the application, in whole or in part, no later than December 13, 2003.

The following is a brief overview of the application.

Level of the proposed PFC: $4.50.

Proposed charge effective date: March, 2005.

Proposed charge expiration date: January, 2008.

Total estimated PFC revenue: $8,543,039.

Brief description of proposed project(s): Provide a passenger terminal paging system; expand the passenger terminal concourse stem; install required sprinkler system in passenger terminal building; modify passenger loading bridges; and construct a glycol tank storage area. Any person may inspect the application in person at the FAA office listed above under FOR FURTHER INFORMATION CONTACT.

In addition, any person may, upon request, inspect the application, notice and other documents germane to the application in person at the Des Moines International Airport, Des Moines, Iowa.

Issued in Kansas City, Missouri, on August 25, 2003.
George A. Hendon,
Manager, Airports Division, Central Region.

[FR Doc. 03-22805 Filed 9-8-03; 8:45 am]

BILLING CODE 4910-13-M